Title 3—

The President

Proclamation 10539 of March 31, 2023

Arab American Heritage Month, 2023

By the President of the United States of America

A Proclamation

The Arab American story is the American story—one of diverse backgrounds and faiths, vibrant tradition, bold innovation, hard work, commitment to community, and stalwart patriotism, all coming together to accomplish something greater than any one of us. This month, we join together to celebrate the immeasurable contributions of Arab Americans to our Nation and recommit ourselves to the timeless work of making sure that all people have the opportunity to achieve the American Dream.

Ours is a Nation shaped by the immigrant's heart, and generations of brave and hopeful people from across all countries, including from the Arab world, have woven their unique heritages, customs, and talents into the tapestry of America. Today, the achievements of Arab Americans are reflected in the arts and sciences; in businesses and faith communities; in classrooms and hospitals; and in police stations, firehouses, and every branch of the military. Arab Americans are also proudly serving throughout my Administration, bringing a diversity of expertise that helps make this country stronger, more prosperous, and more just.

Sadly, we also recognize that, even as Arab Americans enrich our Nation, many continue to face prejudice, bigotry, and violence—a stain on our collective conscience. Hate must have no safe harbor in this country. We must affirm that sentiment again and again. That is why, on my first day in office, I issued the Proclamation on Ending Discriminatory Bans on Entry to The United States, which harmed the Arab American community. I also signed an Executive Order charging the Federal Government with advancing equity for historically underserved communities, including Arab Americans. I was proud to host a first-of-its-kind United We Stand Summit at the White House and announce new measures to help communities prevent and respond to hate-based threats, bullying, and harassment. I established a new interagency group to coordinate the Federal Government's efforts to fight antisemitism and Islamophobia, which impact Arab Americans. And my Administration is also exploring adding a new data category to the census for Middle Eastern and North African communities as part of our vital work to ensure that Arab Americans are seen, valued, consulted, and properly considered as new policy is made.

I have worked closely with our partners across the Middle East and North Africa to advance a common vision for the world as well as a more peaceful, prosperous, and integrated region. Together, we are strengthening our ability to address shared challenges, from regional security to climate change; fostering economic development and cooperation in science, technology, renewable energy, and space; and bringing greater peace and prosperity to all of our people.

The United States is the only Nation in the world founded on an idea—the idea that we are all created equal and deserve to be treated equally throughout our lives. As a Nation, we have never fully lived up to that promise, but we have never walked away from it either. This Arab American Heritage Month, let us all strive to honor our fundamental values and advance equity and opportunity for all people, affirming once again that diversity is our country's greatest strength.

NOW, THEREFORE, I, JOSEPH R. BIDEN JR., President of the United States of America, by virtue of the authority vested in me by the Constitution and the laws of the United States, do hereby proclaim April 2023 as Arab American Heritage Month. I call upon all Americans to learn more about the history, culture, and achievements of Arab Americans and to observe this month with appropriate programs and activities.

IN WITNESS WHEREOF, I have hereunto set my hand this thirty-first day of March, in the year of our Lord two thousand twenty-three, and of the Independence of the United States of America the two hundred and forty-seventh.

[FR Doc. 2023-07307

Filed 4-4-23; 11:15 am]

Billing code 3395-F3-P